DEPARTMENT OF HEALTH AND HUMAN SERVICES

National Institutes of Health

National Center for Advancing Translational Sciences; Cancellation of Meetings

Notice is hereby given of the cancellation of the National Center for Advancing Translational Sciences Advisory Council and cancellation of the Cures Acceleration Network Review Board, May 12, 2016, 8:30 a.m. to May 12, 2016, 4:30 p.m., National Institutes of Health, Building 31, 31 Center Drive, Conference Room 10, Bethesda, MD, 20892 which was published in the Federal Register on April 19, 2016, 81 FR 22998.

Meetings were cancelled.

Dated: April 26, 2016.
David Clary,
Program Analyst, Office of Federal Advisory Committee Policy.

[FR Doc. 2016-10130 Filed 4-29-16; 8:45 am]

BILLING CODE 4140-01-P